FEDERAL COMMUNICATIONS COMMISSION

[Report No. 2542]

Petitions for Reconsideration and Clarification of Action in Rulemaking Proceedings

April 11, 2002.

Petitions for Reconsideration and Clarification have been filed in the Commission's rulemaking proceedings listed in this Public Notice and published pursuant to 47 CFR 1.429(e). The full text of these document are available for viewing and copying in Room CY-A257, 445 12th Street, SW., Washington, DC or may be purchased from the Commission's copy contractor, Qualex International (202) 863-2893. Oppositions to these petition must be filed by May 1, 2002. See Section 1.4(b)(1) of the Commission's rules (47 CFR 1.4(b)(1)). Replies to an opposition must be filed within 10 days after the time for filing oppositions has expired.

Subject: Implementation of the Pay Telephone Reclassification and Compensation Provisions of the Telecommunications Act of 1996 (CC Docket No. 96-128).

Number of Petitions Filed: 5.

William F. Caton,
Acting Secretary.

[FR Doc. 02-9225 Filed 4-15-02; 8:45 am]

BILLING CODE 6712-01-M